TENNESSEE VALLEY AUTHORITY

18 CFR Part 1310

Administrative Cost Recovery

AGENCY: Tennessee Valley Authority (TVA).

ACTION: Propsed rule.

SUMMARY: TVA proposed to amend its administrative cost recovery regulations by eliminating cost recovery exemptions from the following: Conveyances of land pursuant to section 4(k)(d) of the Tennessee Valley Authority Act of 1933, as amended (16 U.S.C. 831c(k)(d)); TVA phosphate land transactions; and permits and licenses for use of TVA land by distributors of TVA power.

The implementation of this rule amendment would allow TVA to recover more of its administrative cost incurred in processing certain actions from those who directly benefit from the actions.

DATES: Comments must be submitted on or before May 15, 2006.

ADDRESSES: You may submit comments by any of the following methods:

• Mail/Hand Delivery: Teresa C. McDonough, Manager, Resource Stewardship Process Initiatives, 400 West Summit Hill Drive, WT 11B, Knoxville, Tennessee 37902.

• E-mail: tcmcdonough@tva.gov. Include CFR citation in the subject of the message.

• Fax: (865) 632-2345. Attention to Teresa C. McDonugh, Manager, Resource Stewardship Process Initiatives.

FOR FURTHER INFORMATION CONTACT: Teresa C. McDonough, Manager, Resource Stewardship Process Initiatives, (865) 632-6512.

SUPPLEMENTARY INFORMATION: In order to help ensuer that TVA land management and permitting activities are self-sustaining to the full extend possible, the agency has determined that its administrative cost recovery regulations should be amended by eliminating certain mandatory cost recovery exemptions. This determinations is consistent with the objectives of increasing efficiency and recovery the cost of government services from those who most directly benefit from the services.

TVA now proposed to amend its administrative cost recovery regulation by eliminating the following exemptions: Conveyenace of land pursuant to section 4(k)(d) of the Tennessee Valley Authority of 1933, as amended (16 U.S.C. 831c(k)(d)); TVA phosphate land transactions; and permits and licenses for use of TVA land by distributors of TVA power.

This proposed amendment does not impose an information collection burden under the provision of the Paperwork Reduction Act, 44 U.S.C. 3501 et seq. This proposed action will not have a significant impact on a substantial number of small entities as described in the Regulatory Flexibility Act, 5 U.S.C. 601 et seq. There will be no significant economic impact from the amendments include the proposed rule would not significantly add to the cost of one who conducts an activity upon or acquires TVA property. Any economic impact that would occur as a result of the rule amendment would not affect a substantial number of small entities because TVA only receives about ten land use applications from the currently exempted parties each year. Pursuant to the Unfunded Mandates Reform Act, 2 U.S.C. 1501 et seq., the proposed rule does not include any Federal mandates for state, local, and tribal government or the private sector. In addition, any expenditures by state, local, and tribal government or the private sector in connection with the rule would be substantially less than $100 million in any one year.

List of Subjects in 18 CFR Part 1310

Government property, Hunting.

For the reasons set out in the preamble, TVA proposed to amend 18 CFR 1310 as follows:

PART 1310—ADMINISTRATIVE COST RECOVERY

1. The authority citation from part 1310 continues to read as follows:

Authority: 16 U.S.C. 831-831dd; 31 U.S.C. 9701.

2. Revise paragarph (b) of § 1310.2 to read as follows:

§ 1310.2 Application.

* * * * *

(b) Exemption. An administrative charge shall not be made for the following actions:

(1) Releases of unneeded mineral right options.

(2) TVA mineral transactions.

* * * * *

Authority: 16 U.S.C. 831-831dd (2000 & Supp. III 2003).

Dated: March 30, 2006.
Kathryn J. Jackson,
Executive Vice President, River System Operations & Environment and Environment Executive, Tennessee Valley Authority.

[FR Doc. 06-3451 Filed 4-13-06; 8:45 am]

BILLING CODE 8120-08-M